SECURITIES AND EXCHANGE COMMISSION

[Release No. 34-100072; File No. SR-NYSEARCA-2023-63]

Self-Regulatory Organizations; NYSE Arca, Inc.; Notice of Withdrawal of a Proposed Rule Change To List and Trade Shares of the Grayscale Ethereum Futures Trust (ETH) ETF Under NYSE Arca Rule 8.200-E, Commentary .02 (Trust Issued Receipts)

May 7, 2024.

On September 19, 2023, NYSE Arca, Inc. (“NYSE Arca” or “Exchange”) filed with the Securities and Exchange Commission (“Commission”), pursuant to section 19(b)(1) of the Securities Exchange Act of 1934 (“Act”) ¹ and Rule 19b-4 thereunder,² a proposed rule change to list and trade shares of the Grayscale Ethereum Futures Trust (ETH) ETF under NYSE Arca Rule 8.200-E, Commentary .02 (Trust Issued Receipts). The proposed rule change was published for comment in the Federal Register on October 3, 2023.³

¹ 15 U.S.C. 78s(b)(1).

² 17 CFR 240.19b-4.

³ See Securities Exchange Act Release No. 98567 (Sept. 27, 2023), 88 FR 68171. Comments on the proposed rule change are available at: https://www.sec.gov/comments/sr-nysearca-2023-63/srnysearca202363.htm.

On November 15, 2023, pursuant to section 19(b)(2) of the Act,⁴ the Commission designated a longer period within which to approve the proposed rule change, disapprove the proposed rule change, or institute proceedings to determine whether to disapprove the proposed rule change.⁵ On December 18, 2023, the Commission instituted proceedings under section 19(b)(2)(B) of the Act ⁶ to determine whether to approve or disapprove the proposed rule change.⁷ On March 22, 2024, the Commission designated a longer period for Commission action on the proposed rule change.⁸

⁴ 15 U.S.C. 78s(b)(2).

⁵ See Securities Exchange Act Release No. 98944, 88 FR 81171 (Nov. 21, 2023).

⁶ 15 U.S.C. 78s(b)(2)(B).

⁷ See Securities Exchange Act Release No. 99198, 88 FR 88694 (Dec. 22, 2023).

⁸ See Securities Exchange Act Release No. 99842, 89 FR 21584 (Mar. 28, 2024).

On May 3, 2024, the Exchange withdrew the proposed rule change (File No. SR-NYSEARCA-2023-63).

For the Commission, by the Division of Trading and Markets, pursuant to delegated authority.⁹
⁹ 17 CFR 200.30-3(a)(12).
Sherry R. Haywood,
Assistant Secretary.

[FR Doc. 2024-10282 Filed 5-10-24; 8:45 am]

BILLING CODE 8011-01-P